NUCLEAR REGULATORY COMMISSION

[Docket No. 50-328; NRC-2012-0160]

Tennessee Valley Authority; Notice of Withdrawal of Application for Amendment to Facility Operating License

The U.S. Nuclear Regulatory Commission (NRC or the Commission) has granted the request of Tennessee Valley Authority (the licensee) to withdraw its August 31, 2011, application as supplemented by letters dated November 28, 2011, January 27, February 29, and March 8, 2012, for proposed amendment to Facility Operating License No. DPR-79 for the Sequoyah Nuclear Plant, Unit 2, located in Hamilton County, Tennessee.

The proposed change would have revised the Technical Specifications to allow opening of one of the penetration hatches in the shield building dome for up to five hours per day, six days per calendar week while in modes 1 through 4 during SQN, Unit 2 Cycle 18, and until entering Mode 5 at the start of the SQN, Unit 2 fall 2012 refueling outage.

The Commission had previously issued a Notice of Consideration of Issuance of Amendment published in the Federal Register on November 15, 2011 (76 FR 70775). However, by letter dated June 7, 2012, the licensee withdrew the proposed change.

For further details with respect to this action, see the application for amendment dated August 31, 2011, and the licensee's letter dated June 7, 2012, which withdrew the application for license amendment. Documents may be examined, and/or copied for a fee, at the NRC's Public Document Room (PDR), located at One White Flint North, Room O1-F21, 1555 Rockville Pike (first floor), Rockville, Maryland 20852. Publicly available documents created or received at the NRC are accessible electronically through the Agencywide Documents Access and Management System (ADAMS) in the NRC Library at http://www.nrc.gov/reading-rm/adams.html. Persons who do not have access to ADAMS or who encounter problems in accessing the documents located in ADAMS should contact the NRC PDR Reference staff by telephone at 1-800-397-4209, or 301-415-4737 or by email to pdr.resource@nrc.gov.

Dated at Rockville, Maryland, this 27th day of June 2012.
For the Nuclear Regulatory Commission.
Siva P. Lingam,
Project Manager, Plant Licensing Branch II-2, Division of Operating Reactor Licensing, Office of Nuclear Reactor Regulation.

[FR Doc. 2012-16658 Filed 7-6-12; 8:45 am]

BILLING CODE 7590-01-P